INTERNATIONAL TRADE COMMISSION

[Investigation No. 337-TA-705]

In the Matter of: Certain Notebook Computer Products and Components Thereof; Notice of Commission Determination Not To Review an Initial Determination Terminating the Investigation Based on a Settlement Agreement

AGENCY: U.S. International Trade Commission.

ACTION: Notice.

SUMMARY: Notice is hereby given that the U.S. International Trade Commission has determined not to review the presiding administrative law judge's (“ALJ”) initial determination (“ID”) (Order No. 28) granting a joint motion filed by the complainant and the respondents to terminate the investigation based on a settlement agreement. The investigation is terminated.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 24, 2010, based on a complaint filed by Toshiba Corporation of Japan (“Toshiba”). 75 FR 8400. The complaint alleges violations of section 337 of the Tariff Act of 1930 (19 U.S.C. 1337) in the importation into the United States, the sale for importation, and the sale within the United States after importation of certain notebook computer products and components thereof by reason of infringement of Toshiba's patents. The complaint named Wistron Corporation of Taiwan, Wistron InfoComm (Texas) Corporation of Grapevine, Texas, and Wistron InfoComm Technology (America) Corporation of Flower Mound, Texas (collectively, “Wistron”) as respondents.

On October 4, 2010, Toshiba and Wistron jointly moved to terminate the investigation based on a settlement agreement, pursuant to Commission rule 210.21 (19 CFR 210.21). The Commission investigative attorney supported the joint motion.

On October 5, 2010, the ALJ issued the subject ID (Order No. 28) granting the joint motion to terminate the investigation. No petitions for review of the ID were filed. The Commission has determined not to review the subject ID.

The authority for the Commission's determination is contained in section 337 of the Tariff Act of 1930, as amended (19 U.S.C. 1337), and in section 210.42 of the Commission's Rules of Practice and Procedure (19 CFR 210.42).

By order of the Commission.
Issued: October 20, 2010.
Marilyn R. Abbott,
Secretary to the Commission.

[FR Doc. 2010-26978 Filed 10-25-10; 8:45 am]

BILLING CODE 7020-02-P